DEPARTMENT OF ENERGY

Federal Energy Regulatory Commission

[Docket No. CD15-19-000]

Cub River Irrigation Company; Notice of Preliminary Determination of a Qualifying Conduit Hydropower Facility and Soliciting Comments and Motions To Intervene

On February 10, 2015, the Cub River Irrigation Company filed a notice of intent to construct a qualifying conduit hydropower facility, pursuant to section 30 of the Federal Power Act (FPA), as amended by section 4 of the Hydropower Regulatory Efficiency Act of 2013 (HREA). The proposed Middle Ditch Hydroelectric Project would have an installed capacity of 480 kilowatts (kW) and would be located on the existing Middle Ditch Canal, which transports water for agricultural irrigation purposes. The project would be located near the Town of Franklin in Franklin County, Idaho.

Applicant Contact: Don Baldwin, P.O. Box 215, Lewiston, UT 84320, Phone No. (435) 512-4672.

FERC Contact: Robert Bell, Phone No. (202) 502-6062, email: robert.bell@ferc.gov.

Qualifying Conduit Hydropower Facility Description: The proposed project would consist of: (1) Four proposed intake structures with 16-inch butterfly valves attached directly to the 42-inch-diameter main pipeline; (2) a proposed 60- by 40-foot powerhouse containing four turbine generator units with a total installed capacity of 480 kW; (3) three proposed 17-foot-long, 16-inch-diameter pipes which return water to the 42-inch main pipeline and, for the fourth unit that only operates when the other three units are not, a proposed 17-foot-long, 30-inch-diameter pipeline that returns water to Middle Ditch Canal; and (4) appurtenant facilities. The proposed project would have an estimated annual generating capacity of 756 megawatt-hours.

A qualifying conduit hydropower facility is one that is determined or deemed to meet all of the criteria shown in the table below.

Table 1—Criteria for Qualifying Conduit Hydropower Facility
Statutory provision | Description | Satisfies (Y/N)
FPA 30(a)(3)(A), as amended by HREA | The conduit the facility uses is a tunnel, canal, pipeline, aqueduct, flume, ditch, or similar manmade water conveyance that is operated for the distribution of water for agricultural, municipal, or industrial consumption and not primarily for the generation of electricity | Y
FPA 30(a)(3)(C)(i), as amended by HREA | The facility is constructed, operated, or maintained for the generation of electric power and uses for such generation only the hydroelectric potential of a non-federally owned conduit | Y
FPA 30(a)(3)(C)(ii), as amended by HREA | The facility has an installed capacity that does not exceed 5 megawatts | Y
FPA 30(a)(3)(C)(iii), as amended by HREA | On or before August 9, 2013, the facility is not licensed, or exempted from the licensing requirements of Part I of the FPA | Y

Preliminary Determination: Based upon the above criteria, Commission staff preliminarily determines that the proposal satisfies the requirements for a qualifying conduit hydropower facility, which is not required to be licensed or exempted from licensing.

Comments and Motions to Intervene: Deadline for filing comments contesting whether the facility meets the qualifying criteria is 45 days from the issuance date of this notice.

Deadline for filing motions to intervene is 30 days from the issuance date of this notice.

Anyone may submit comments or a motion to intervene in accordance with the requirements of Rules of Practice and Procedure, 18 CFR 385.210 and 385.214. Any motions to intervene must be received on or before the specified deadline date for the particular proceeding.

Filing and Service of Responsive Documents: All filings must (1) bear in all capital letters the “COMMENTS CONTESTING QUALIFICATION FOR A CONDUIT HYDROPOWER FACILITY” or “MOTION TO INTERVENE,” as applicable; (2) state in the heading the name of the applicant and the project number of the application to which the filing responds; (3) state the name, address, and telephone number of the person filing; and (4) otherwise comply with the requirements of sections 385.2001 through 385.2005 of the Commission's regulations.¹ All comments contesting Commission staff's preliminary determination that the facility meets the qualifying criteria must set forth their evidentiary basis.

¹ 18 CFR 385.2001-2005 (2014).

The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. A copy of all other filings in reference to this application must be accompanied by proof of service on all persons listed in the service list prepared by the Commission in this proceeding, in accordance with 18 CFR 4.34(b) and 385.2010.

Locations of Notice of Intent: Copies of the notice of intent can be obtained directly from the applicant or such copies can be viewed and reproduced at the Commission in its Public Reference Room, Room 2A, 888 First Street NE., Washington, DC 20426. The filing may also be viewed on the web at http://www.ferc.gov/docs-filing/elibrary.asp using the “eLibrary” link. Enter the docket number (e.g., CD15-19-000) in the docket number field to access the document. For assistance, call toll-free 1-866-208-3676 or email FERCOnlineSupport@ferc.gov. For TTY, call (202) 502-8659.

Dated: February 25, 2015.
Nathaniel J. Davis, Sr.,
Deputy Secretary.

[FR Doc. 2015-04368 Filed 3-2-15; 8:45 am]

BILLING CODE 6717-01-P